FEDERAL COMMUNICATIONS COMMISSION

Deletion of Agenda Items From August 22, 2008, Open Meeting

August 21, 2008.

The following items have been deleted from the list of Agenda items scheduled for consideration at the August 22, 2008, Open Meeting and previously listed in the Commission's Notice of August 15, 2008, 73 FR 49200, August 20, 2008. Item No. 3 has been adopted by the Commission.

Item No. | Bureau | Subject
1 | Wireless Tele-Communications | Title: Reexamination of Roaming Obligations of Commercial Mobile Radio Service Providers (WT Docket No. 05-265).
|  | Summary: The Commission will consider a Memorandum Opinion and Order on Reconsideration addressing petitions for reconsideration of the Report and Order.
3 | Media | Title: Carriage of Digital Television Broadcast Signals: Amendment to Part 76 of the Commission's Rules.
|  | Summary: The Commission will consider a Fourth Report and Order concerning issues related to mandatory cable carriage of digital broadcast television signals after the conclusion of the digital (“DTV”) transition.

Federal Communications Commission.
William F. Caton,
Deputy Secretary.

[FR Doc. E8-19982 Filed 8-25-08; 4:15 pm]

BILLING CODE 6712-01-P